DEPARTMENT OF THE INTERIOR

Bureau of Reclamation

Meeting of the Yakima River Basin Conservation Advisory Group, Yakima River Basin Water Enhancement Project, Yakima, Washington

AGENCY: Bureau of Reclamation, Department of the Interior.

ACTION: Notice of meeting.

SUMMARY: As required by the Federal Advisory Committee Act, notice is hereby given that the Yakima River Basin Conservation Advisory Group (CAG), Yakima River Basin Water Enhancement Project, Yakima, Washington, established by the Secretary of the Interior (Secretary), will hold a public meeting. The purpose of the CAG is to provide technical advice and counsel to the Secretary and the State of Washington on the structure, implementation, and oversight of the Yakima River Basin Water Conservation Program.

DATES: Wednesday, January 23, 2002, 9 a.m.-4 p.m.

ADDRESSES: Bureau of Reclamation Office, 1917 Marsh Road, Yakima, Washington.

FOR FURTHER INFORMATION CONTACT: James Esget, Manager, Yakima River Basin Water Enhancement Project, 1917 Marsh Road, Yakima, Washington, 98901; (509) 575-5848, extension 267.

SUPPLEMENTARY INFORMATION: The purpose of the meeting will be to review water marketing opportunities in the Yakima River Basin and develop recommendations.

Dated: December 19, 2001.
James A. Esget,
Program Manager.

[FR Doc. 02-485 Filed 1-16-02; 8:45 am]

BILLING CODE 4310-MN-M